DEPARTMENT OF TRANSPORTATION

Federal Aviation Administration

14 CFR Part 71

[Docket No. FAA-2021-0920; Airspace Docket No. 21-ASW-7]

RIN 2120-AA66

Proposed Establishment of United States Area Navigation (RNAV) Routes; South and Central United States

AGENCY: Federal Aviation Administration (FAA), DOT.

ACTION: Notice of proposed rulemaking (NPRM).

SUMMARY: This action proposes to establish three United States Area Navigation (RNAV) routes, designated T-370, T-398, and T-419, in the south and central United States. These routes would supplement certain VHF Omnidirectional Range (VOR) Federal airways in support of the VOR Minimum Operational Network (MON) program, and would expand the availability of RNAV routing in the National Airspace System (NAS).

DATES: Comments must be received on or before December 16, 2021.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2021-0920; Airspace Docket No. 21-ASW-7 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV routes in the NAS, increase airspace capacity, and reduce complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0920; Airspace Docket No. 21-ASW-7 and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0920; Airspace Docket No. 21-ASW-7.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/. You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document amends FAA Order JO 7400.11F, Airspace Designations and Reporting Points, dated August 10, 2021 and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 to establish new RNAV routes T-370, T-398, and T-419 in the southern and central United States. These routes would overlay certain VOR Federal airways that are based on navigation aids (NAVAIDs) that are planned for decommissioning under the FAA's VOR MON program.

T-370: T-370 is a proposed a new route that would extend between the BURBIN, TX, waypoint (WP) and the VLKNN, AL, WP. T-370 would overlay VOR Federal airway V-278 that extends between the Bowie, TX, (UKW) VHF Omnidirectional Range Tactical Air Navigation (VORTAC), and the Vulcan, AL, (VUZ) VORTAC. A number of navigation aids (NAVAIDs) that currently form V-278 are planned for future decommissioning. Therefore, in the proposed T-370 description, those NAVAIDs would be replaced by WPs as follows. The BURBN, TX, WP replaces the Bowie, TX, (UKW) VORTAC. The RRORY, TX, WP replaces the Bonham, TX, (BYP) VORTAC. The TASEY, TX, WP replaces the Paris, TX, (PRX) VOR/DME. The SLOTH, TX, WP replaces the Texarkana, TX, (TXK) VORTAC. The RICKG, AR, WP replaces the Monticello, AR, (MON) VOR/DME. The EJKSN, MS, WP replaces the Greenville, MS, (GLH) VOR/DME. The IZAAC, MS, WP replaces the Sidon, MS, (SQS) VORTAC. The SKNNR, MS, WP replaces the Bigbee, MS, (IGB) VORTAC. The VLKNN, AL, WP replaces the Vulcan, AL, (VUZ) VORTAC.

T-398: T-398 is a proposed new route that would extend between the SLOTH, TX, WP, and the GMINI, NC, WP. T-398 would overlay VOR Federal airway V-54 that currently extends between the Texarkana, TX, (TXK) VORTAC, and the Sandhills, NC, (SDZ) VORTAC. A number of NAVAIDs that currently form V-54 are planned for future decommissioning. Therefore, in the proposed T-398 description, those NAVAIDs would be replaced by WPs as follows. The SLOTH, TX, WP replaces the Texarkana, TX, (TXK) VORTAC. The LITTR, AR, WP replaces the Little Rock, AR, (LIT) VORTAC. The EMEEY, AR, WP replaces the Marvell, AR, (UJM) VOR/DME. The GOINS, MS, WP replaces the Holly Springs, MS, (HLI) VORTAC. The HAGIE, AL, WP replaces the Muscle Shoals, AL, (MSL) VORTAC. The FILUN, AL, WP replaces the Rocket, AL, (RQZ) VORTAC. The JILIS, GA, WP replaces the Choo Choo, TN, (GQO) VORTAC. The BALNN, GA, WP replaces the Harris, GA, (HRS) VORTAC. The BURGG, SC, WP replaces the Spartanburg, SC, (SPA) VORTAC. The CRLNA, NC, WP replaces the Charlotte, NC, (CLT) VOR/DME. The GMINI, NC, WP replaces the Sandhills, NC, (SDZ) VORTAC.

T-419: T-419 is a proposed new route that would extend between the MAHTY, AR, WP, and the TERGE, IN, WP. T-419 would overlay those segments of VOR Federal airway V-305 that extends between the Walnut Ridge, AR, (ARG) VORTAC, and the Pocket City, IN, (PXV) VORTAC. A number of NAVAIDs that currently form V-305 are planned for future decommissioning. Therefore, in the proposed T-419 description, those NAVAIDs would be replaced by WPs as follows. The MAHTY, AR, WP replaces the Walnut Ridge, AR, (ARG) VORTAC. The FRNIA, MO, WP replaces the Malden, MO, (MAW) VORTAC. The MESSR, KY, WP replaces the Cunningham, KY, (CNG) VOR/DME. The TERGE, IN, WP replaces the Pocket City, IN, (PXV) VORTAC.

The full route legal descriptions of T-370, T-398, and T-419 are listed in “The Proposed Amendment” section, below.

These changes would provide RNAV routing to supplement VOR Federal airways that will be impacted by the VOR MON program, and support the transition to a more efficient Performance Based Navigation route structure.

United States Area Navigation routes are published in paragraph 6011 of FAA Order JO 7400.11F, dated August 10, 2021, and effective September 15, 2021, which is incorporated by reference in 14 CFR 71.1. The RNAV routes listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-370 BURBN, TX to VLKNN, AL [New]
BURBN, TX | WP | (Lat. 33°32′09.20″ N, long. 097°49′15.83″ W)
RRORY, TX | WP | (Lat. 33°32′14.95″ N, long. 096°14′03.45″ W)
TASEY, TX | WP | (Lat. 33°32′32.56″ N, long. 095°26′54.55″ W)
SLOTH, TX | WP | (Lat. 33°30′49.99″ N, long. 094°04′24.38″ W)
RICKG, AR | WP | (Lat. 33°33′43.12″ N, long. 091°42′56.29″ W)
EJKSN, MS | WP | (Lat. 33°31′24.65″ N, long. 090°58′57.87″ W)
IZAAC, MS | WP | (Lat. 33°27′49.87″ N, long. 090°16′37.75″ W)
SKNRR, MS | WP | (Lat. 33°29′07.75″ N, long. 088°30′49.63″ W)
BESOM, AL | FIX | (Lat. 33°35′10.73″ N, long. 087°39′23.49″ W)
NESTS, AL | WP | (Lat. 33°36′53.34″ N, long. 087°20′51.86″ W)
VLKNN, AL | WP | (Lat. 33°40′12.47″ N, long. 086°53′58.83″ W)
* * * * * * *
T-398 SLOTH, TX to GMINI, NC [New]
SLOTH, TX | WP | (Lat. 33°30′49.99″ N, long. 094°04′24.38″ W)
MUFRE, AR | FIX | (Lat. 34°05′31.32″ N, long. 093°10′43.80″ W)
LITTR, AR | WP | (Lat. 34°40′39.90″ N, long. 092°10′49.26″ W)
EMEEY, AR | WP | (Lat. 34°34′30.29″ N, long. 090°40′27.14″ W)
GOINS, MS | WP | (Lat. 34°46′12.64″ N, long. 089°29′46.81″ W)
HAGIE, AL | WP | (Lat. 34°42′25.87″ N, long. 087°29′29.76″ W)
FILUN, AL | WP | (Lat. 34°47′50.14″ N, long. 086°38′01.14″ W)
JILIS, GA | WP | (Lat. 34°57′23.98″ N, long. 085°08′03.46″ W)
CRAND, GA | FIX | (Lat. 34°57′28.88″ N, long. 084°51′20.59″ W)
BALNN, GA | WP | (Lat. 34°56′34.20″ N, long. 083°54′56.42″ W)
BURGG, SC | WP | (Lat. 35°02′00.55″ N, long. 081°55′36.86″ W)
GAFFE, SC | FIX | (Lat. 35°05′38.90″ N, long. 081°33′23.92″ W)
CRLNA, NC | WP | (Lat. 35°12′49.48″ N, long. 080°56′57.32″ W)
LOCAS, NC | FIX | (Lat. 35°12′05.18″ N, long. 080°26′44.89″ W)
RELPY, NC | FIX | (Lat. 35°12′45.70″ N, long. 079°47′28.76″ W)
GMINI, NC | WP | (Lat. 35°12′23.01″ N, long. 079°34′01.98″ W)
* * * * * * *
T-419 MAHTY, AR to TERGE, IN [New]
MAHTY, AR | WP | (Lat. 36°06′36.35″ N, long. 090°57′12.65″ W)
FRNIA, MO | WP | (Lat. 36°33′18.69″ N, long. 089°54′40.47″ W)
MESSR, KY | WP | (Lat. 37°00′30.44″ N, long. 088°50′13.16″ W)
TERGE, IN | WP | (Lat. 37°55′42.47″ N, long. 087°45′44.19″ W)

* * * * *

Issued in Washington, DC, on October 25, 2021.
Michael R. Beckles,
Acting Manager, Rules and Regulations Group.

[FR Doc. 2021-23565 Filed 10-29-21; 8:45 am]

BILLING CODE 4910-13-P